DEPARTMENT OF COMMERCE

National Oceanic and Atmospheric Administration

50 CFR Part 679

RIN 0648-XF559

Fisheries of the Exclusive Economic Zone Off Alaska; Essential Fish Habitat Amendments; Correction

AGENCY: National Marine Fisheries Service (NMFS), National Oceanic and Atmospheric Administration (NOAA), Commerce.

ACTION: Fishery management plan amendments; notification of correction.

SUMMARY: The National Marine Fisheries Service (NMFS) is announcing the correction of Amendment 115 to the fishery management plan (FMP) for Groundfish of the Bering Sea and Aleutian Islands Management Area (BSAI Groundfish FMP). NMFS is correcting the numbering of the sections in Amendment 115 describing species-specific essential fish habitat (EFH).

DATES: The correction to Amendment 115 is effective March 26, 2019.

ADDRESSES: The corrected FMP may be obtained at https://www.npfmc.org/wp-content/PDFdocuments/fmp/BSAI/BSAIfmp.pdf.

FOR FURTHER INFORMATION CONTACT: Megan Mackey, 907-586-7228.

SUPPLEMENTARY INFORMATION:

Need for Correction

On July 5, 2018, NMFS announced the final approval of EFH amendments to five of its six FMPs, including the BSAI Groundfish FMP (83 FR 31340), in effect as of May 31, 2018 (July 2018 notification) and published availability information for the amendments. These amendments updated the description and identification of EFH based on the best scientific information available to comply with the regulatory requirement to review and update EFH every five years. Species-specific EFH sections are numbered in Section 4.2.2 of the BSAI Groundfish FMP; however, a number for the dusky rockfish section was inadvertently left out. This correction provides a number for the dusky rockfish section, and renumbers subsequent species sections sequentially. No regulations were promulgated as part of the July 2018 notification, therefore no regulatory changes are needed to effect this correction.

Classification

Pursuant to 5 U.S.C. 553(b)(B), the Assistant Administrator for Fisheries, NOAA (AA) finds there is good cause to waive prior notice and opportunity for public comment on this correction, as notice and comment would be unnecessary and contrary to public interest. This notification announces the correction of the unintentional omission of a number for the dusky rockfish EFH section, as described above, and does not change operating practices in the fisheries. Therefore, in order to avoid any negative consequences that could result from this error, the AA finds good cause to waive the requirement to provide prior notice and opportunity for public comment.

The AA also finds good cause to waive the 30-day delay in the effective date of this action under 5 U.S.C. 553(d)(3). This correction notification makes only minor change to the numbers of the species-specific EFH sections and does not change the operating practices in the fisheries. For these reasons, the AA finds good cause to waive the 30-day delay in the effective date of this action.

Description of Correction

In the BSAI Groundfish FMP Amendment 115, described in the July 2018 notification (see ADDRESSES for availability), the section for dusky rockfish on page 10 is numbered as follows:

4.2.2.2.20 Dusky Rockfish

Species-specific EFH sections following dusky rockfish are corrected to be numbered sequentially up to the last species section numbered 4.2.2.2.30 for yellow Irish lord, which was numbered 4.2.2.2.29 in the text described in the July 2018 notification.

Authority: 16 U.S.C. 1801 et seq.

Dated: March 19, 2019.
Samuel D. Rauch III,
Deputy Assistant Administrator for Regulatory Programs, National Marine Fisheries Service.

[FR Doc. 2019-05599 Filed 3-25-19; 8:45 am]

BILLING CODE 3510-22-P